NATIONAL SCIENCE FOUNDATION

Advisory Committee for Mathematical and Physical Sciences; Notice of Meeting

In accordance with the Federal Advisory Committee Act (Pub. L. 92-463, as amended), the National Science Foundation (NSF) announces the following meeting:

NAME AND COMMITTEE CODE: Advisory Committee for Mathematical and Physical Sciences (#66).

DATE AND TIME: April 19, 2023; 10:15 a.m. to 4:30 p.m., April 20, 2023: 9 a.m. to 3:05 p.m.

PLACE: NSF, 2415 Eisenhower Avenue, Alexandria, VA 22314.

Hybrid participation for AC Members and Presenters. Other visitors and guests will be able to virtually attend the meeting.

To attend the virtual meeting, please send your request for the virtual meeting link to Michelle Bushey at the following email address: mbushey@nsf.gov.

TYPE OF MEETING: Open.

CONTACT PERSON: Ciara Dalton, National Science Foundation, 2415 Eisenhower Avenue, Room C 9000, Alexandria, Virginia 22314; Telephone: 703/292-4328.

MEETING INFORMATION: http://www.nsf.gov/mps/advisory.jsp.

PURPOSE OF MEETING: To provide advice, recommendations and counsel on major goals and policies pertaining to MPS programs and activities.

Agenda

Wednesday, April 19, 2023

• Call to Order and Official Opening of the Meeting

• Approval of Prior Meeting Minutes—MPSAC Chair

• MPS Update by Assistant Director

• Science Highlight

• Division of Physics Committee of Visitors Report

• Research Security

• Budget Update and Drivers

• Preparation for discussion With NSF Chief Operating Officer and Chief of Staff

• Closing Remarks and Adjourn Day 1

Thursday, April 20, 2023

• Welcome and Overview of Agenda

• Science Highlight

• MPS Facilities and AC Subcommittees

• Advisory Committee on Environmental Research and Education

• Partnerships Programs' Principal Investigators and Teams

• Committee on Equal Opportunities in Science and Engineering

• Preparation for Discussion With NSF Chief Operating Officer and Chief of Staff

• Meeting and Discussion With NSF Chief Operating Officer and Chief of Staff

• Closing Remarks and Adjourn

Dated: March 15, 2023.
Crystal Robinson,
Committee Management Officer.

[FR Doc. 2023-05599 Filed 3-17-23; 8:45 am]

BILLING CODE 7555-01-P